DEPARTMENT OF TRANSPORTATION

Federal Aviation Administration

14 CFR Part 71

[Docket FAA 05-23361; Airspace Docket 05-ANM-17]

Proposed Revision to Class E Airspace; Pinedale, WY

AGENCY: Federal Aviation Administration (FAA), DOT.

ACTION: Notice of proposed rulemaking.

SUMMARY: This proposal would revise Class E airspace at Pinedale, WY. Additional controlled airspace is necessary to accommodate aircraft executing new Area Navigation (RNAV) Global Positioning System (GPS) approach procedures at Pinedale/Ralph Wenz Field. This action would improve the safety of Instrument Flight Rules (IFR) aircraft executing these new procedures at Pinedale/Ralph Wenz Field, Pinedale, WY.

DATES: Comments must be received on or before April 13, 2006.

ADDRESSES: Send comments on this proposal to the Docket Management System, U.S. Department of Transportation, Room Plaza 401, 400 Seventh Street, SW., Washington, DC 20590-0001. You must identify the docket number, FAA 05-23361; Airspace Docket 05-ANM-17, at the beginning of your comments. You may also submit comments through the Internet at http://dms.dot.gov.

FOR FURTHER INFORMATION CONTACT: Ed Haeseker at the Federal Aviation Administration, Air Traffic Organization, Western En Route and Oceanic Service Area Office, 1601 Lind Avenue, SW., Renton, WA 98055; telephone 425-227-2527.

SUPPLEMENTARY INFORMATION:

Comments Invited

Interested parties are invited to participate in this proposed rulemaking by submitting such written data, views, or arguments, as they may desire. Comments that provide the factual basis supporting the views and suggestions presented are particularly helpful in developing reasoned regulatory decision on the proposal. Comments are specifically invited on the overall regulatory, aeronautical, economic, environmental, and energy-related aspects of the proposals.

Communications should identify Docket FAA 05-23361; Airspace Docket 05-ANM-17, and be submitted in triplicate to the Docket Management System at the address listed above. You may also submit comments through the Internet at http://dms.dot.gov.

Commenters wishing the FAA to acknowledge receipt of their comments on this action must submit with those comments a self-addressed stamped postcard on which the following statement is made: “Comments to Docket FAA 05-23361; Airspace Docket 05-ANM-17”. The postcard will be date/time stamped and returned to the commenter. All communications received on or before the specified closing date for comments will be considered before action is taken on the proposed rule. The proposal contained in this action may be changed in light of comments received. All comments submitted will be available for examination in the public docket both before and after the closing date for comments. A report summarizing each substantive public contact with FAA personnel concerned with this rulemaking will be filed in the docket.

Availability of NPRM

An electronic copy of this document may be downloaded through the Internet at http://dms.dot.gov. Recently published rulemaking documents can also be accessed through the FAA's Web page at http://www.faa.gov or the Federal Register's Web page at http://gpoaccess.gov/fr/index.html.

You may review the public docket containing the proposal, any comments received, and any final dispositions in person in the Docket Office between 9 a.m. and 5 p.m., Monday through Friday, except Federal holidays. The Docket Office (telephone number 800-647-5527) is on the plaza level of the Department of Transportation, Nassif Building at the above address. An informal docket may also be examined during normal business hours at the Federal Aviation Administration, Air Traffic Organization, Western En Route and Oceanic Service Area Office, Airspace Branch, 1601 Lind Avenue, SW., Renton, WA 98055.

Persons interested in being placed on a mailing list for future NPRMs should contact the FAA's Office of Rulemaking, 202-267-9677, to request a copy of Advisory Circular No. 11-2A, Notice of Proposed Rulemaking Distribution System, which describes the application procedures.

The Proposal

This action would amend Title 14 Code of Federal Regulations (14 CFR) part 71 by revising Class E airspace at Pinedale, WY. Additional controlled airspace is necessary to accommodate aircraft executing new RNAV GPS approach procedures at Pinedale/Ralph Wenz Field. Controlled airspace is necessary where there is a requirement for IFR services, which include arrival, departure, and transitioning to/from the terminal or en route environment. Class E airspace designations are published in paragraph 6005 of FAA Order 7400.9N dated September 1, 2005, and effective September 15, 2005, which is incorporated by reference in 14 CFR part 71.1. The Class E airspace designation listed in this document will be published subsequently in this order.

The FAA has determined that this proposed regulation only involves an established body of technical regulations for which frequent and routine amendments are necessary to keep them operationally current. Therefore, this proposed regulation: (1) is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this proposed rule would not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9N, Airspace Designations and Reporting Points, dated September 1, 2005, and effective September 15, 2005, is amended as follows:

* * * * *

Paragraph 6005 Class E Airspace areas extending upward from 700 feet or more above the surface of the earth.

* * * * *

ANM WY E5 Pinedale, WY [Revised]

Pinedale/Ralph Wenz Field, WY

(Lat. 42°47′44″ N., long. 109°48′26″ W.)

Big Piney VOR/DME

(Lat. 42°34′46″ N., long. 110°06′33″ W.)

Wenz NDB

(Lat. 42°47′50″ N., long. 109°48′13″ W.)

The airspace extending upward from 700 feet above the surface within 4.3 miles each side of a direct line between the Big Piney VOR/DME and the Wenz NDB extending from the VOR/DME to a point 4.3 miles northeast of the NDB, and within 3.1 miles each side of the 323° bearing and 4.0 miles each side of the 303° bearing to the Wenz NDB extending to 13 miles southeast of the NDB, and 4.0 miles either side of the 123° bearing to the Wenz NDB extending to 10 miles northwest of the NDB; that airspace extending upward from 1,200 feet above the surface beginning at lat. 43°00′00″ N., long. 110°30′00″ W., thence east to lat. 43°00′00″ N., long. 109°45′00″ W., thence southeast to lat. 42°30′00″ N., long. 109°11′00″ W., thence southwest to lat. 42°00′00″ N., long. 109°50′00″ W., thence west to lat. 42°00′00″ N., long. 110°00′00″ W., thence northwest to point of beginning.

* * * * *

Issued in Seattle, Washington, on February 3, 2006.
Clark Desing,
Acting Area Director, Western En Route and Oceanic Operations.

[FR Doc. 06-1761 Filed 2-24-06; 8:45 am]

BILLING CODE 4910-13-M